DEPARTMENT OF ENERGY

Federal Energy Regulatory Commission

Combined Notice of Filings

Take notice that the Commission has received the following Natural Gas Pipeline Rate and Refund Report filings:

Filings Instituting Proceedings

Docket Numbers: RP13-779-000.

Applicants: East Tennessee Natural Gas, LLC.

Description: April 1, 2013, K410135 release to K660989 to be effective 4/1/2013.

Filed Date: 4/4/13.

Accession Number: 20130404-5029.

Comments Due: 5 p.m. ET 4/16/13.

Docket Numbers: RP13-780-000.

Applicants: Dominion Transmission, Inc.

Description: DTI—Volume 1A Abandonment of TL-404 to be effective 5/6/2013.

Filed Date: 4/4/13.

Accession Number: 20130404-5065.

Comments Due: 5 p.m. ET 4/16/13.

Docket Numbers: RP13-781-000.

Applicants: Ozark Gas Transmission, L.L.C.

Description: Park and Loan Service Revisions to be effective 5/6/2013.

Filed Date: 4/4/13.

Accession Number: 20130404-5071.

Comments Due: 5 p.m. ET 4/16/13.

Docket Numbers: RP13-782-000.

Applicants: Quicksilver Resources Inc.

Description: Petition for Temporary Waivers of Quicksilver Resources Inc. of Capacity Release Regulation and Related Pipeline Tariff Provisions.

Filed Date: 4/4/13.

Accession Number: 20130404-5144.

Comments Due: 5 p.m. ET 4/16/13.

Docket Numbers: RP13-783-000.

Applicants: Steuben Gas Storage Company.

Description: Steuben Gas Storage Company—Cancellation of FERC Gas Tariff to be effective 4/5/2013.

Filed Date: 4/5/13.

Accession Number: 20130405-5045.

Comments Due: 5 p.m. ET 4/17/13.

Docket Numbers: RP13-784-000.

Applicants: Elba Express Company, L.L.C.

Description: Negotiated and Non-Conforming Rates Filing to be effective 4/1/2013.

Filed Date: 4/5/13.

Accession Number: 20130405-5050.

Comments Due: 5 p.m. ET 4/17/13.

Docket Numbers: RP13-785-000.

Applicants: Guardian Pipeline, L.L.C.

Description: Part 5.0 Update to be effective 5/6/2013.

Filed Date: 4/5/13.

Accession Number: 20130405-5060.

Comments Due: 5 p.m. ET 4/17/13.

Docket Numbers: RP13-786-000.

Applicants: El Paso Natural Gas Company, L.L.C.

Description: Non-Conforming Agreements Filing to be effective 6/1/2013.

Filed Date: 4/5/13.

Accession Number: 20130405-5124.

Comments Due: 5 p.m. ET 4/17/13.

Docket Numbers: RP13-788-000.

Applicants: Texas Gas Transmission, LLC.

Description: Superseding Neg Rate Agmt Filing (NextEra 32738) to be effective 2/15/2013.

Filed Date: 4/8/13.

Accession Number: 20130408-5013.

Comments Due: 5 p.m. ET 4/22/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 8, 2013.
Nathaniel J. Davis, Sr.
Deputy Secretary

[FR Doc. 2013-08639 Filed 4-11-13; 8:45 am]

BILLING CODE 6717-01-P